DEPARTMENT OF AGRICULTURE

Animal and Plant Health Inspection Service

[Docket No. APHIS-2025-0637]

Notice of Proposed Revision to Requirements for the Importation of Pineapples From Taiwan Into the United States

AGENCY: Animal and Plant Health Inspection Service, USDA.

ACTION: Notice of availability.

SUMMARY: We are advising the public that we have prepared a pest risk assessment (PRA) and a risk management document (RMD) relative to the importation into the United States of fresh pineapple (Ananas comosus (L.) Merr.) fruit from Taiwan. Currently, fresh pineapple fruit from Taiwan must be at least 50 percent Smooth Cayenne by lineage in order to be authorized importation into the United States, and may only be imported into Guam or the Commonwealth of the Northern Mariana Islands, among other import conditions. However, the national plant protection organization (NPPO) of Taiwan has asked APHIS for expanded authorization to import any variety of fresh pineapple fruit into any State or Territory of the United States. Based on the NPPO's request, APHIS has prepared a PRA that evaluates the plant pest and noxious weed risk associated with the importation of fresh pineapple fruit from Taiwan into the United States, and an RMD that proposes mitigations to address these risks. We are making the PRA and RMD available to the public for review and comment.

DATES: We will consider all comments that we receive on or before May 4, 2026.

ADDRESSES: You may submit comments by either of the following methods:

• Federal eRulemaking Portal: Go to www.regulations.gov. Enter APHIS-2025-0637 in the Search field. Select the Documents tab, then select the Comment button in the list of documents.

• Postal Mail/Commercial Delivery: Send your comment to Docket No. APHIS-2025-0637, Regulatory Analysis and Development, PPD, APHIS, APHIS, 5601 Sunnyside Ave., #AP760, Beltsville, MD 20705.

Supporting documents and any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Gina Stiltner, Senior Regulatory Policy Specialist, Regulatory Coordination and Compliance, PPQ, APHIS, 1400 Independence SW, Washington, DC 20250; (518) 760-2468.

SUPPLEMENTARY INFORMATION:

Background

Under the regulations in “Subpart L-Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides the requirements for authorizing the importation of fruits and vegetables into the United States, as well as revising existing requirements for the importation of fruits and vegetables. Paragraph (c) of that section provides that the name and origin of all fruits and vegetables authorized importation into the United States, as well as the requirements for their importation, are listed on the internet at https://acir.aphis.usda.gov/s/; this address provides access to the Agricultural Commodity Import Requirements database, or ACIR. It also provides that, if the Administrator of APHIS determines that any of the phytosanitary measures required for the importation of a particular fruit or vegetable are no longer necessary to reasonably mitigate the plant pest risk posed by the fruit or vegetable, APHIS will publish a notice in the Federal Register making its pest risk documentation and determination available for public comment.

Fresh pineapple fruit from Taiwan is currently listed in ACIR as authorized for importation into the United States. Currently, the fresh pineapple fruit from Taiwan must be at least 50 percent Smooth Cayenne by lineage in order to be authorized importation into the United States, and may only be imported into Guam or the Commonwealth of the Northern Mariana Islands, among other conditions.

When a change is being sought to the conditions governing the importation of a fruit or vegetable that is already authorized for importation into the United States, the national plant protection organization (NPPO) of the relevant exporting country must submit information in support of the requested change to APHIS in accordance with the regulations in § 319.5 of

7 CFR. The regulations in this section specify the form that the request must take, as well as the necessary documentation in order for APHIS to consider it complete and evaluate it.

Pursuant to the regulations in § 319.5, the NPPO of Taiwan submitted a request that asked APHIS for expanded authorization to import any variety of fresh pineapple fruit into any port of the United States.

In response to this request, APHIS has prepared a pest risk assessment (PRA) that evaluates the plant pest and noxious weed risk associated with the importation of fresh pineapple from Taiwan into the United States, as well as a risk management document (RMD) that proposes mitigations to address these risks.

Therefore, in accordance with § 319.56-4(c), we are announcing the availability of our PRA and RMD for public review and comment. Those documents, as well as a description of the economic considerations associated with revising the conditions for the importation of fresh pineapple fruit from Taiwan, may be viewed on the Regulations.gov website or in our reading room (see ADDRESSES above for a link to Regulations.gov and information on the location and hours of the reading room). You may request paper copies of the PRA and RMD by calling or writing to the person listed under FOR FURTHER INFORMATION CONTACT. Please refer to the subject of the analysis you wish to review when requesting copies.

After reviewing any comments we receive, we will announce our decision regarding whether to revise the requirements for the importation of fresh pineapple fruit from Taiwan in a subsequent notice. If the overall conclusions of our analysis and the Administrator's determination of risk remain unchanged following our consideration of the comments, then we will revise the requirements for the importation of fresh pineapple fruit from Taiwan as specified in the RMD.

Authority: 7 U.S.C. 1633, 7701-7772, and 7781-7786; 21 U.S.C. 136 and 136a; 7 CFR 2.22, 2.80, and 371.3.

Done in Washington, DC, this 25th day of February 2026.
Kelly Moore,
Acting Administrator, Animal and Plant Health Inspection Service.

[FR Doc. 2026-04206 Filed 3-2-26; 8:45 am]

BILLING CODE 3410-34-P